FEDERAL MARITIME COMMISSION

Ocean Transportation Intermediary License Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 2802F.

Name: Charles Dorsch Ship's Agent, Inc.

Address: 1981 Main Street, San Diego, CA 92113.

Date Revoked: April 9, 2012.

Reason: Failed to maintain a valid bond.

License Number: 4217F.

Name: Reliable Van & Storage Co., Inc.

Address: 550 Division Street, Elizabeth, NJ 07201.

Date Revoked: March 24, 2012.

Reason: Failed to maintain a valid bond.

License Number: 004422NF.

Name: C & C Group, Inc.

Address: 1409 NW 84th Avenue, Miami, FL 33126.

Date Revoked: March 2, 2012.

Reason: Failed to maintain a valid bond.

License Number: 004471F.

Name: B.R.A.L. Miami, Inc.

Address: 7766 NW 46th Street, Miami, FL 33166.

Date Revoked: March 20, 2012.

Reason: Failed to maintain a valid bond.

License Number: 6098N.

Name: Sunshine Express Line, Inc.

Address: 8433 NW 68th Street, Miami, FL 33166.

Date Revoked: April 8, 2012.

Reason: Failed to maintain a valid bond.

License Number: 15369N.

Name: Caribbean Ocean Corporation.

Address: 8005 NW 80th Street, Unit 4, Bldg. E, Miami, FL 33166.

Date Revoked: April 2, 2012.

Reason: Failed to maintain a valid bond.

License Number: 16397N.

Name: Kesco Shipping Inc.

Address: 17595 Almahurst Street, Suite 210, City of Industry, CA 91748.

Date Revoked: April 14, 2012.

Reason: Failed to maintain a valid bond.

License Number: 017511N.

Name: Royal Cargo Line, Inc.

Address: 1928 NW 82nd Avenue, Miami, FL 33126.

Date Revoked: March 23, 2012.

Reason: Failed to maintain a valid bond.

License Number: 017524N.

Name: Natco International Transports USA, L.L.C.

Address: 12415 SW 136th Avenue, Bay 4, Miami, FL 33186.

Date Revoked: April 8, 2012.

Reason: Failed to maintain a valid bond.

License Number: 017692NF.

Name: American Links Logistics International, Inc.

Address: 3591 Highland Drive, San Bruno, CA 94066.

Date Revoked: April 2, 2012.

Reason: Voluntarily surrendered license.

License Number: 018184N.

Name: JP Express Shipping, Corp.

Address: 1873 Bathgate Avenue, Bronx, NY 10457.

Date Revoked: March 27, 2012.

Reason: Failed to maintain a valid bond.

License Number: 018196N.

Name: PMJ International Inc.

Address: 519 Mountainview Drive, North Plainfield, NJ 07063.

Date Revoked: March 23, 2012.

Reason: Failed to maintain a valid bond.

License Number: 018250F.

Name: Consolidation Shipping & Logistic (USA), Inc.

Address: 219 Stuyvesant Avenue, Lyndhurst, NJ 01071.

Date Revoked: April 15, 2012.

Reason: Failed to maintain a valid bond.

License Number: 018269N.

Name: Zaklee International Corporation.

Address: 777 Henderson Blvd., Suite 2A, Folcroft, PA 19032.

Date Revoked: March 1, 2012.

Reason: Voluntarily surrendered license.

License Number: 019311N.

Name: Turkish Express Line, Inc.

Address: 115 River Road, Suite 827, Edgewater, NJ 07020.

Date Revoked: April 16, 2012.

Reason: Failed to maintain a valid bond.

License Number: 019398NF.

Name: Copacabana Enterprises Group, Inc.

Address: 6500 NW 84th Avenue, Miami, FL 33166.

Date Revoked: April 17, 2012.

Reason: Failed to maintain valid bonds.

License Number: 019704NF.

Name: All Services & Merchandise, Corp. dba Asam dba Cargo Mundo.

Address: 2840 NW 108th Avenue, Miami, FL 33172.

Date Revoked: April 8, 2012.

Reason: Failed to maintain valid bonds.

License Number: 019808N.

Name: Centro America Envios, Inc.

Address: 1741 W. Flager Street, Miami, FL 33135.

Date Revoked: April 19, 2012.

Reason: Failed to maintain a valid bond.

License Number: 020381F.

Name: Active Link Logistics, L.L.C.

Address: 1201 Grand Avenue, Suite 205, West Des Moines, IA 50265.

Date Revoked: April 20, 2012.

Reason: Voluntarily surrendered license.

License Number: 020784NF.

Name: Matson Global Distribution Services, Inc.

Address: 555 12th Street, Suite 700, Oakland, CA 94607.

Date Revoked: April 16, 2012.

Reason: Failed to maintain valid bonds.

License Number: 021459N.

Name: Pax Global Cargo U.S.A., LLC.

Address: 23133 Hawthorne Blvd., Suite B-02, Torrance, CA 90505.

Date Revoked: April 15, 2012.

Reason: Failed to maintain a valid bond.

License Number: 021957N.

Name: Foothills Logistics, Inc.

Address: 327-B West Phillips Road, Greer, SC 29650.

Date Revoked: March 15, 2012.

Reason: Voluntarily surrendered license.

License Number: 022397NF.

Name: Meridian Logistics LLC.

Address: 4008 Chancery Place, Fort Wayne, IN 46804.

Date Revoked: March 1, 2012.

Reason: Voluntarily surrendered license.

License Number: 022845NF.

Name: Arlette P. Porras dba RA International.

Address: 1900 Los Alamitos Drive, Placentia, CA 92870.

Date Revoked: March 22, 2012.

Reason: Failed to maintain valid bonds.

License Number: 023220NF.

Name: Asencomex, LLC.

Address: 8510 NW 70th Street, Miami, FL 33166

Date Revoked: April 20, 2012.

Reason: Voluntarily surrendered license.

Vern W. Hill,
Director, Bureau of Certification and Licensing.

[FR Doc. 2012-11235 Filed 5-9-12; 8:45 am]

BILLING CODE 6730-01-P